DEPARTMENT OF HOUSING AND URBAN DEVELOPMENT

[Docket No. FR-5375-N-21]

Federal Property Suitable as Facilities To Assist the Homeless; Republication

Editorial Note: FR Doc. 2010-13257 which was originally published at page 30847 in the issue of Wednesday, June 2, 2010 is being republished in its entirety in the issue of Friday, June 4, 2010 because it incorrectly published on June 2, 2010.

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Brenda Carignan, Department of Agriculture, Reporters Building, 300 7th Street, SW., Rm. 337, Washington, DC 20024; (202) 401-0787; Air Force: Mr. Robert Moore, Air Force Real Property Agency, 143 Billy Mitchell Blvd. Ste. 1, San Antonio, TX 78226; (210) 395-9512; COE: Mr. Scott Whiteford, Army Corps of Engineers, Real Estate, CEMP-CR, 441 G Street, NW., Washington, DC 20314; (202) 761-5542; Energy: Mr. Mark Price, Department of Energy, Office of Engineering & Construction Management, MA-50, 1000 Independence Ave, SW., Washington, DC 20585: (202) 586-5422; GSA: Mr. Gordon Creed, General Services Administration, Office of Property Disposal, 18th and F St., NW., Washington, DC 20405; (202) 501-0084; Navy: Mr. Albert Johnson, Department of the Navy, Asset Management Division, Naval Facilities Engineering Command, Washington Navy Yard, 1330 Patterson Ave., SW., Suite 1000, Washington, DC 20374; (202) 685-9305; (These are not toll-free numbers).

Dated: May 27, 2010.
Mark R. Johnston,
Deputy Assistant Secretary for Special Needs.

Title V, Federal Surplus Property Program

Federal Register Report for 06/04/2010

Suitable/Available Properties

Building

Colorado

7 Bldgs.

U.S. Air Force Academy

El Paso CO 80840

Landholding Agency: Air Force

Property Number: 18201020002

Status: Unutilized

Directions: 6501, 6502, 6503, 6504, 6505, 6507, and 6508

Comments: 2222 sq. ft. each

Iowa

Former SSA Bldg.

3012 Division Street

Burlington IA 52601

Landholding Agency: GSA

Property Number: 54201020005

Status: Excess

GSA Number: 7-G-IA-0508

Comments: 5060 sq. ft., most recent use—office

Ohio

Bldg. MURDOT-23142

5153 State Rd

Dover OH 44622

Landholding Agency: COE

Property Number: 31201020001

Status: Unutilized

Comments: 664 sq. ft. office bldg., presence of asbestos/lead paint, off-site use only

Belmont Cty Memorial USAR Ctr

5305 Guernsey St.

Bellaire OH 43906

Landholding Agency: GSA

Property Number: 54201020008

Status: Excess

GSA Number: 1-D-OH-837

Comments: 11,734 sq. ft.—office/drill hall; 2,519 sq. ft.—maint. shop

South Dakota

Camp Crook Bldg. No. 2002

Camp Crook Co: Harding SD 57724

Landholding Agency: GSA

Property Number: 54201020007

Status: Surplus

GSA Number: 7-A-SD-0535-1

Comments: off-site removal only, 2395 sq. ft., needs repair, and presence of asbestos

LAND

Missouri

Annex No. 3

Whiteman AFB

Knob Noster MO 65336

Landholding Agency: Air Force

Property Number: 18201020001

Status: Underutilized

Comments: 9 acres

Unsuitable Properties

Building

Alaska

Bldg. 100 and 101

Long Range Radar Site

Point Barrow AK

Landholding Agency: Air Force

Property Number: 18201020003

Status: Unutilized

Reasons: Within 2000 ft. of flammable or explosive material Within airport runway clear zone

7 Bldgs.

Eareckson Air Station

Eareckson AK 99546

Landholding Agency: Air Force

Property Number: 18201020004

Status: Unutilized

Directions: 132, 152, 153, 750, 3013, 3016, and 4012

Reasons: Within airport runway clear zone, Secured Area, and Extensive deterioration

California

Bldgs. 591, 970, 1565

Vandenberg AFB

Vandenberg CA 93437

Landholding Agency: Air Force

Property Number: 18201020005

Status: Unutilized

Reasons: Extensive deterioration, Secured Area

11 Bldgs.

Lawrence Berkeley Nat'l Lab

Berkeley Co: Alameda CA 94720

Landholding Agency: Energy

Property Number: 41201020008

Status: Excess

Directions: Bldg. Nos. 25, 25A, 25B, 44, 44A, 44B, 46C, 46D, 52, 52A, and 75A

Reasons: Secured Area

Bldgs. 3550, 3551

Naval Base

San Diego CA

Landholding Agency: Navy

Property Number: 77201020015

Status: Unutilized

Reasons: Secured Area

Colorado

Bldg. 1413

Buckley AFB

Aurora CO

Landholding Agency: Air Force

Property Number: 18201020006

Status: Unutilized

Reasons: Extensive deterioration, Secured Area

Florida

Bldgs. 1622, 60408, and 60537

Cape Canaveral AFS

Brevard FL 32925

Landholding Agency: Air Force

Property Number: 18201020007

Status: Unutilized

Reasons: Secured Area

13 Bldgs.

Tyndall AFB

Bay FL 32403

Landholding Agency: Air Force

Property Number: 18201020008

Status: Excess

Directions: B111, B113, B115, B205, B206, B501, B810, B812, B824, B842, B1027, B1257, and B8402

Reasons: Within 2000 ft. of flammable or explosive material, Secured Area

Georgia

Bldgs. 665 and 1219

Moody AFB

Moody AFB GA 31699

Landholding Agency: Air Force

Property Number: 18201020009

Status: Underutilized

Reasons: Secured Area

12 Bldgs.

West Point Lake

West Point GA 31833

Landholding Agency: COE

Property Number: 31201020002

Status: Unutilized

Directions: WLC06, LC05, LC06, LC07, RP07, WEC04, WEC05, WYJ03, WH17, WR01, WGB04, and RP09

Reasons: Extensive deterioration

Hawaii

Bldgs. 39 and 14111

Kaena Point Satellite Tracking Station

Honolulu HI 96792

Landholding Agency: Air Force

Property Number: 18201020010

Status: Excess

Reasons: Within 2000 ft. of flammable or explosive material, Secured Area

Illinois

Bldgs. 004R43, 003R60

Carlyle Lake

Clinton IL 62231

Landholding Agency: COE

Property Number: 31201020003

Status: Excess

Reasons: Extensive deterioration

Bldg. 621

FERMILAB

Batavia IL

Landholding Agency: Energy

Property Number: 41201020007

Status: Excess

Reasons: Extensive deterioration, Secured Area

Indiana

Bldg. 18

Grissom AFB

Peru IN 46970

Landholding Agency: Air Force

Property Number: 18201020012

Status: Excess

Reasons: Within 2000 ft. of flammable or explosive material

Kansas

27 Bldgs.

McConnell AFB

Sedgwick KS 67210

Landholding Agency: Air Force

Property Number: 18201020013

Status: Excess

Directions: 2052, 2347, 2054, 2056, 2044, 2047, 2049, 2071, 2068, 2065, 2063, 2060, 2237, 2235, 2232, 2230, 2352, 2349, 2345, 2326, 2328, 2330, 2339, 2324, 2342, 2354, and 2333

Reasons: Secured Area

Louisiana

TARS Sites 1-6

Morgan City LA 70538

Landholding Agency: Air Force

Property Number: 18201020014

Status: Unutilized

Reasons: Secured Area

Maine

Bldgs. B496 and 497

Bangor Internatl Airport

Bangor ME 04401

Landholding Agency: Air Force

Property Number: 18201020015

Status: Unutilized

Reasons: Secured Area

New Jersey

5 Bldgs.

Joint Base McGuire-Dix-Lakehurst

Trenton NJ 08641

Landholding Agency: Air Force

Property Number: 18201020016

Status: Unutilized

Directions: 1827, 1925, 3424, 3446, and 3449

Reasons: Extensive deterioration, Secured Area

North Dakota

Bldg. ASH 10367

Baldhill Dam

Barnes ND

Landholding Agency: COE

Property Number: 31201020004

Status: Unutilized

Reasons: Extensive deterioration

Oklahoma

Compound

Canton Lake

Canton OK

Landholding Agency: COE

Property Number: 31201020005

Status: Unutilized

Reasons: Extensive deterioration

South Carolina

7 Bldgs.

Shaw AFB

Sumter SC 29152

Landholding Agency: Air Force

Property Number: 18201020017

Status: Unutilized

Directions: B1026, B400, B401, B1402, B1701, B1711, and B1720

Reasons: Secured Area

Bldgs. B40006 and B40009

Shaw AFB

Wedgefield SC 29168

Landholding Agency: Air Force

Property Number: 18201020018

Status: Unutilized

Reasons: Secured Area

Texas

Wallisville Road Property

Houston TX 77029

Landholding Agency: GSA

Property Number: 54201020006

Status: Surplus

GSA Number: 7-G-TX-1107

Reasons: Within 2000 ft. of flammable or explosive material

Virginia

Bldg. TR-CO1

Tailrace Park

Mecklenberg VA 23917

Landholding Agency: COE

Property Number: 31201020006

Status: Unutilized

Reasons: Extensive deterioration

West Virginia

InKeep House

Smokehole Canyon

Grant WV 26855

Landholding Agency: Agriculture

Property Number: 15201020001

Status: Unutilized

Reasons: Extensive deterioration

Bldg. BLN-01-A-01

Bluestone Lake

Hinton WV 25951

Landholding Agency: COE

Property Number: 31201020007

Status: Unutilized

Reasons: Extensive deterioration

LAND

Illinois

Annex

Scolt Radio Relay

Belleville IL 62221

Landholding Agency: Air Force

Property Number: 18201020011

Status: Unutilized

Reasons: Secured Area

[FR Doc. 2010-13257 Filed 6-1-10; 8:45 am]

Editorial Note: FR Doc. 2010-13257 which was originally published at page 30847 in the issue of Wednesday, June 2, 2010 is being republished in its entirety in the issue of Friday, June 4, 2010 because it incorrectly published on June 2, 2010.

[FR Doc. R1-2010-13257 Filed 6-3-10; 8:45 am]

BILLING CODE 1505-01-D